CONSUMER PRODUCT SAFETY COMMISSION

[Docket No. CPSC-2010-0046]

Agency Information Collection Activities; Proposed Collection; Comment Request; Consumer Focus Groups

AGENCY: Consumer Product Safety Commission.

ACTION: Notice.

SUMMARY: As required by the Paperwork Reduction Act of 1995 (44 U.S.C. Chapter 35), the Consumer Product Safety Commission (CPSC or Commission) requests comments on a proposed extension of approval of a collection of information from persons who may voluntarily participate in consumer focus groups under OMB Control No. 3041-0136. The Commission will consider all comments received in response to this notice before requesting an extension of this collection of information from the Office of Management and Budget (OMB).

DATES: Submit written or electronic comments on the collection of information by April 14, 2014.

ADDRESSES: You may submit comments, identified by Docket No. CPSC-2010-0046, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2010-0046, into the “Search” box, and follow the prompts.

FOR FURTHER INFORMATION CONTACT: Robert H. Squibb, Consumer Product Safety Commission, 4330 East West Highway, Bethesda, MD 20814; (301) 504-7815, or by email to: rsquibb@cpsc.gov.

SUPPLEMENTARY INFORMATION:

A. Background

Section 5(a) of the Consumer Product Safety Act (CPSA), 15 U.S.C. 2054(a), authorizes the Commission to conduct studies and investigations relating to the causes and prevention of deaths, accidents, injuries, illnesses, other health impairments, and economic losses associated with consumer products. Section 5(b) of the CPSA, 15 U.S.C. 2054(b), further provides that the Commission may conduct research, studies and investigations on the safety of consumer products or test consumer products and develop product safety test methods and testing devices.

To help identify and evaluate product-related incidents, Commission staff invites and obtains direct feedback from consumers on issues related to product safety, such as recall effectiveness, product use, and perceptions regarding safety issues. By convening focus groups to provide information regarding use of a specific consumer product or class of consumer products, including recalled products, CPSC has collected valuable information. For example, Commission staff has used focus groups to assess consumers' behavior related to product recalls, pool and spa safety, the Consumer Product Safety Risk Management System, recreational off-road vehicle restraint systems, and cpsc.gov Web site redesign.

The information that the CPSC collects from future focus groups will help inform the Commission's identification and evaluation of consumer products and product use, by providing insight and information into consumer perceptions and usage patterns. In some cases, one-on-one interviews may be conducted as a more in-depth extension of a focus group or in place of a traditional focus group. This information may also assist the Commission in its efforts to support voluntary standards activities and help CPSC identify consumer safety issues requiring additional research. In addition, based on the information obtained, CPSC may be able to provide safety information to the public that is easier to read and understood by a wider range of consumers.

B. Burden Hours

1. Respondents

The CPSC seeks the proposed extension of approval of a collection of information for consumer focus groups that may be conducted by the CPSC over the next three years. Staff estimates that over the 3-year period of this request, the Commission will conduct up to 20 focus groups, with 10 persons each, and 10 one-on-one interviews for a variety of projects. The total hours of burden to the respondents are (an estimated 4 hours per person for each focus group × 200 participants) + (an estimated 30 minutes per person for each individual interview × 10 participants) = 1,100 hours (367 hours per year for 3 years). The total annual cost is estimated at 1,100 × $31.16 (U.S. Department of Labor, Employer Costs for Employee Compensation, September 2013) = $34,276 ($11,425.33 per year for 3 years).

2. Federal Government

The total cost of this collection to the federal government is estimated at approximately $140,000. This represents nine months of staff time annually. This sum includes anticipated travel costs expended for meeting with contractors and contracts for conducting focus groups or one-on-one interviews as well as salaries and benefits ($129,419). This estimate uses an annual total compensation of $119,238 (the equivalent of a GS-14 Step 5 employee), with an additional 30.9 percent added for benefits (U.S. Bureau of Labor Statistics, “Employer Costs for Employee Compensation,” September 2013, Table 1, percentage of wages and salaries for all civilian management, professional, and related employees), for a total annual compensation of $172,559.

C. Requests for Comments

The Commission invites comments on the proposed collection of information, including:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic, or other technological collection techniques, or other forms of information technology.

Todd A. Stevenson,
Secretary, Consumer Product Safety Commission.

[FR Doc. 2014-02901 Filed 2-10-14; 8:45 am]

BILLING CODE 6355-01-P